DEPARTMENT OF ENERGY

Federal Energy Regulatory Commission

Combined Notice of Filings

Take notice that the Commission has received the following Natural Gas Pipeline Rate and Refund Report filings:

Filings Instituting Proceedings

Docket Numbers: RP14-218-000.

Applicants: High Island Offshore System, L.L.C.

Description: HIOS Motion Rate Filing (RP14-218) to be effective 6/1/2014.

Filed Date: 5/21/14.

Accession Number: 20140521-5101.

Comments Due: 5 p.m. ET 6/2/14.

Docket Numbers: RP14-989-000.

Applicants: Millennium Pipeline Company, LLC.

Description: Order to Show Cause Compliance Filing to be effective 5/20/2014.

Filed Date: 5/20/14.

Accession Number: 20140520-5125.

Comments Due: 5 p.m. ET 6/2/14.

Docket Numbers: RP14-990-000.

Applicants: Colorado Interstate Gas Company, L.L.C.

Description: Xpress to DART Conversion Filing to be effective 12/31/9998.

Filed Date: 5/21/14.

Accession Number: 20140521-5185.

Comments Due: 5 p.m. ET 6/2/14.

Docket Numbers: RP14-991-000.

Applicants: Wyoming Interstate Company, L.L.C.

Description: Xpress to DART Conversion Filing to be effective 12/31/9998.

Filed Date: 5/21/14.

Accession Number: 20140521-5186.

Comments Due: 5 p.m. ET 6/2/14.

Docket Numbers: RP14-992-000.

Applicants: Vector Pipeline L.P.

Description: Negotiated Rate Filing to be effective 6/23/2014.

Filed Date: 5/22/14.

Accession Number: 20140522-5005.

Comments Due: 5 p.m. ET 6/3/14.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP13-941-005.

Applicants: Southern Star Central Gas Pipeline, Inc.

Description: Rate Case (RP13-941) Settlement Filing to be effective 12/1/2013.

Filed Date: 5/21/14.

Accession Number: 20140521-5056.

Comments Due: 5 p.m. ET 6/2/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 22, 2014.
Nathaniel J. Davis, Sr.,
Deputy Secretary.

[FR Doc. 2014-12714 Filed 6-2-14; 8:45 am]

BILLING CODE 6717-01-P